ENVIRONMENTAL PROTECTION AGENCY

40 CFR Parts 52 and 81

[R04-OAR-2005-KY-0001-200521(b); FRL-7973-1]

Approval and Promulgation of Implementation Plans and Designation of Areas for Air Quality Planning Purposes; Kentucky; Redesignation of the Christian County, Kentucky Portion of the Clarksville-Hopkinsville 8-Hour Ozone Nonattainment Area to Attainment for Ozone

AGENCY: Environmental Protection Agency (EPA).

ACTION: Proposed rule.

SUMMARY: On March 21, 2005, the Commonwealth of Kentucky, through the Kentucky Division for Air Quality (KDAQ), submitted a request for parallel processing and on May 20, 2005, submitted a final request: To redesignate the Christian County, Kentucky portion of the Clarksville-Hopkinsville 8-hour ozone nonattainment area to attainment for the 8-hour ozone National Ambient Air Quality Standard (NAAQS); and for EPA approval of a Kentucky State Implementation Plan (SIP) revision containing a 12-year maintenance plan for Christian County, Kentucky. The interstate Clarksville-Hopkinsville 8-hour ozone nonattainment area is comprised of two counties (i.e., Christian County, Kentucky and Montgomery County, Tennessee). EPA is proposing to approve the 8-hour ozone redesignation request for the Christian County, Kentucky portion of the Clarksville-Hopkinsville 8-hour ozone nonattainment area. Additionally, EPA is proposing to approve the 8-hour ozone maintenance plan for Christian County, Kentucky. This proposed approval is based on EPA's determination that the Commonwealth of Kentucky has demonstrated that Christian County, Kentucky has met the criteria for redesignation to attainment specified in the Clean Air Act (CAA), including the determination that the entire Clarksville-Hopkinsville 8-hour ozone nonattainment area has attained the 8-hour ozone standard. On June 29, 2005, the State of Tennessee submitted a redesignation request and maintenance plan for the Montgomery, Tennessee portion of this area for EPA parallel processing. In this action, EPA is also providing information on the status of its transportation conformity adequacy determination for the new motor vehicle emission budgets (MVEBs) for the years 2004 and 2016 that are contained in the 12-year 8-hour ozone maintenance plan for Christian County, Kentucky. EPA is proposing to approve such MVEBs. In the Final Rules section of this Federal Register, EPA is taking action to approve the redesignation request and maintenance plan without prior proposal. A detailed rationale for the redesignation and other actions is set forth in the direct final rule. If no adverse comments are received in response to this action, no further activity is contemplated. If EPA receives adverse comments, the direct final rulemaking will be withdrawn and public comments received will be addressed in a subsequent final rule based on this proposed rule. EPA will not institute a second comment period on this document. Any parties interested in commenting on this document should do so at this time.

DATES: Comments must be received on or before October 24, 2005.

ADDRESSES: Comments may be mailed to Stacy DiFrank, Regulatory Development Section, Air Planning Branch, Air, Pesticides and Toxics Management Division, U.S. Environmental Protection Agency, Region 4, 61 Forsyth Street, SW., Atlanta, Georgia 30303-8960. Please follow the detailed instructions described in the direct final rule, ADDRESSES section which is published in the Rules Section of this Federal Register.

FOR FURTHER INFORMATION CONTACT: Stacy DiFrank's telephone number is (404) 562-9042. Ms. Stacy DiFrank can also be reached via electronic mail at difrank.stacy@epa.gov.

SUPPLEMENTARY INFORMATION: For additional information on the approval of Kentucky's redesignation request and maintenance plan for the Christian County portion of the Clarksville-Hopkinsville 8-hour ozone nonattainment area, please see the direct final rule which is published in the Final Rules section of this Federal Register.

Dated: September 13, 2005.
A. Stanley Meiburg,
Acting, Regional Administrator, Region 4.

[FR Doc. 05-18960 Filed 9-21-05; 8:45 am]

BILLING CODE 6560-50-P